DEPARTMENT OF ENERGY

Federal Energy Regulatory Commission

Notice of Availability of the Draft Environmental Impact Statement for the Susquehanna River Hydroelectric Projects

York Haven Power Company | Project No. 1888-030—Pennsylvania.
Exelon Generation Company | Project No. 2355-018—Pennsylvania/Maryland.
| Project No. 405-106—Maryland.

In accordance with the National Environmental Policy Act of 1969 and the Federal Energy Regulatory Commission (Commission or FERC) regulations contained in the Code of Federal Regulations (CFR) (18 CFR part 380 [FERC Order No. 486, 52 FR 47897]), the Office of Energy Projects has reviewed the applications for license for the York Haven Hydroelectric Project (FERC No. 1888), the Muddy Run Pumped Storage Project (FERC No. 2355), and the Conowingo Hydroelectric Project (FERC No. 405) and prepared a draft multi-project environmental impact statement (EIS) for the projects.

The York Haven Project is located on the Susquehanna River at river mile (RM) 55 in the city of York, in York, Dauphin, and Lancaster counties, Pennsylvania. The project does not occupy any federal lands. The Muddy Run and Conowingo projects are located on the Susquehanna River at RM 22 and RM 10, respectively, in Lancaster and York counties, Pennsylvania, and Cecil and Harford counties, Maryland. Conowingo Pond, the reservoir for the Conowingo Project, acts as the lower reservoir for the Muddy Run Project. The Muddy Run Project also includes an upper reservoir for pumped storage operation. The projects do not occupy any federal lands.

The draft EIS contains staff's analysis of the applicants' proposals and the alternatives for relicensing the York Haven, Muddy Run, and Conowingo projects. The draft EIS documents the views of governmental agencies, non-governmental organizations, affected Indian tribes, the public, the license applicants, and Commission staff.

A copy of the draft EIS is available for review at the Commission or may be viewed on the Commission's Web site at http://www.ferc.gov, using the “e-Library” link. Enter the docket number, excluding the last three digits, to access the document. For assistance, contact FERC Online Support at FERCOnlineSupport@ferc.gov or toll-free at (866) 208-3676, or for TTY, contact (202) 502-8659.

You may also register online at http://www.ferc.gov/docs-filing/esubscription.asp to be notified via email of new filings and issuances related to this or other pending projects. For assistance, contact FERC Online Support.

All comments must be filed by Monday, September 29, 2014, and should reference Project Nos. 1888-030, 2355-018, and 405-106. The Commission strongly encourages electronic filing. Please file comments using the Commission's efiling system at http://www.ferc.gov/docs-filing/efiling.asp. Commenters can submit brief comments up to 6,000 characters, without prior registration, using the eComment system at http://www.ferc.gov/docs-filing/ecomment.asp. You must include your name and contact information at the end of your comments. For assistance, please contact FERC Online Support. In lieu of electronic filing, please send a paper copy to: Kimberly D. Bose, Secretary, Federal Energy Regulatory Commission, 888 First Street NE., Washington, DC 20426.

Anyone may intervene in this proceeding based on this draft EIS (18 CFR 380.10). You must file your request to intervene as specified above. You do not need intervenor status to have your comments considered.

Commission staff will hold three public meetings for the purpose of receiving comments on the draft EIS. The daytime meeting will focus on resource agency, Indian tribe, and non-governmental organization comments, while the evening meetings are primarily for receiving input from the public. All interested individuals and entities will be invited to attend one or all of the public meetings. A notice detailing the exact date, time, and location of the public meetings will be forthcoming.

For further information, please contact Emily Carter at (202) 502-6512 or at emily.carter@ferc.gov.

Dated: July 30, 2014.
Kimberly D. Bose,
Secretary.

[FR Doc. 2014-18487 Filed 8-4-14; 8:45 am]

BILLING CODE 6717-01-P